DEPARTMENT OF THE INTERIOR

National Park Service

[NPS-WASO-NRNHL-DTS#-26012; PPWOCRADI0, PCU00RP14.R50000]

National Register of Historic Places; Notification of Pending Nominations and Related Actions

AGENCY: National Park Service, Interior.

ACTION: Notice.

SUMMARY: The National Park Service is soliciting comments on the significance of properties nominated before July 7, 2018, for listing or related actions in the National Register of Historic Places.

DATES: Comments should be submitted by August 9, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 7, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so. Nominations submitted by State Historic Preservation Officers:

MASSACHUSETTS

Hampden County

Hampden County Training School, 702 S Westfield St., Agawam, SG100002781

Plymouth County

Cardinal Cushing Center Historic District, 369 Washington St., Hanover, SG100002782

Worcester County

Pan Historic District, Main St., Annie Moore, Burnham, Hudson & Long Hill Rds., Bolton, SG100002783

A request for removal has been made for the following resource:

ALASKA

Fairbanks North Star Borough

Masonic Temple, 809 1st Ave., Fairbanks, OT80004568

Nominations submitted by Federal Preservation Officers:

The State Historic Preservation Officer reviewed the following nominations and responded to the Federal Preservation Officer within 45 days of receipt of the nominations and supports listing the properties in the National Register of Historic Places.

ALASKA

Denali Borough

Kantishna Roadhouse, (Kantishna Historic Mining Resources of Denali National Park and Preserve, MPS), Approx .1 mi. W of mi. 91 of Denali Park Rd., Denali vicinity, MP100002780

UTAH

Kane County

Paso por Aqui—Anno 1776 Inscription, Address Restricted, Big Water vicinity, SG100002785

Authority: Section 60.13 of 36 CFR part 60.

Dated: July 11, 2018.
Julie H. Ernstein,
Acting Chief, National Register of Historic Places/National Historic Landmarks Program and Deputy Keeper of the National Register of Historic Places.

[FR Doc. 2018-15869 Filed 7-24-18; 8:45 am]

BILLING CODE 4312-52-P